DEPARTMENT OF HOMELAND SECURITY

Bureau of Customs and Border Protection

Departmental Advisory Committee on Commercial Operations of Customs and Border Protection and Related Functions (COAC)

ACTION: Notice of meeting.

SUMMARY: This notice announces the date, time, and location for the fourth meeting of the ninth term of the Departmental Advisory Committee on Commercial Operations of Customs and Border Protection and Related Functions (COAC), and the expected agenda for its consideration.

DATES: The next meeting of the COAC will be held on Thursday, December 1, 2005, 9 a.m. to 1 p.m.

ADDRESSES: The meeting will be held in the “Pavillion” of the Ronald Reagan Building, 1300 Pennsylvania Avenue, NW., Washington, DC.

FOR FURTHER INFORMATION CONTACT: Ms. Monica Frazier, Office of the Assistant Secretary for Policy, Department of Homeland Security, Washington, DC 20528, telephone 202-282-8431; facsimile 202-282-8504. Members of the public may submit written comments at any time before or after the meeting to the contact person for consideration by this Advisory Committee.

SUPPLEMENTARY INFORMATION: The fourth meeting of the ninth term of the Departmental Advisory Committee on Commercial Operations of Customs and Border Protection and Related Functions (COAC) will be held at the date, time and location specified above. This notice also announces the expected agenda for that meeting below. This meeting is open to the public; however, participation in COAC deliberations is limited to COAC members, Homeland Security and Treasury Department officials, and persons invited to attend the meeting for special presentations. Since seating is limited, all persons attending this meeting should provide notice preferably by close of business Monday, November 28, 2005, to Ms. Monica Frazier, Office of the Assistant Secretary for Policy, Department of Homeland Security, Washington, DC 20528, telephone 202-282-8431; facsimile 202-282-8504.

Information on Services for Individuals With Disabilities

For information on facilities or services for individuals with disabilities or to request special assistance at the meeting, contact Ms. Monica Frazier, Office of the Assistant Secretary for Policy, Department of Homeland Security, Washington, DC 20528, telephone 202-282-8431; facsimile 202-282-8504, as soon as possible.

Draft Agenda

1. Introductory Remarks

2. DHS Second Stage Review (“2SR”) and the Secure Freight Initiative

3. Update on HSPD-13, Maritime Security Policy

4. Security Subcommittee—C-TPAT (Customs-Trade Partnership Against Terrorism”)

A. Carrier Criteria

B. Benefits

C. Automation

D. Performance Measures

5. Update on Green Lane Task Force

6. Radiation Portal Monitoring Implementation Issues

7. World Customs Organization Framework/Implementation

8. Centralization of Bond Processing

9. Update from CBP

A. Textiles & Apparel Entry Processing

A. International Trade Data Systems

B. Update on ACE (Automated Commercial Environment)

D. FDA/USDA Update

10. Broker Confidentiality

11. New Action Items

12. Adjourn

Dated: November 10, 2005.
Stewart A. Baker,
Assistant Secretary for Policy, United States Department of Homeland Security.

[FR Doc. 05-22679 Filed 11-15-05; 8:45 am]

BILLING CODE 9111-14-P